COMMITTEE FOR PURCHASE FROM PEOPLE WHO ARE BLIND OR SEVERELY DISABLED

Procurement List Additions and Deletions

AGENCY: Committee for Purchase From People Who Are Blind or Severely Disabled.

ACTION: Additions to and deletions from the Procurement List.

SUMMARY: This action adds products and services to the Procurement List that will be furnished by nonprofit agencies employing persons who are blind or have other severe disabilities, and deletes products from the Procurement List previously furnished by such agencies.

DATES: Effective Date: June 27, 2011.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 3/25/2011 (76 FR 16733-16734); 4/1/2011 (76 FR 18188-18189); 4/8/2011 (76 FR 19750-19751); and 4/11/2011 (76 FR 19978), the Committee for Purchase From People Who Are Blind or Severely Disabled published notices of proposed additions to the Procurement List.

After consideration of the material presented to it concerning capability of qualified nonprofit agencies to provide the products and services, and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 7920-01-215-6568—Towel, Highly Absorbent, Synthetic “Shammy” 15x15.

NSN: 7920-01-215-6569—Towel, Highly Absorbent, Synthetic “Shammy” 20x23.

NPA: Industries for the Blind, Inc., West Allis, WI.

Contracting Activity: General Services Administration, Fort Worth, TX.

Coverage: A-List for the Total Government Requirement as aggregated by the General Services Administration.

NSN: M.R. 850—Spinner, Salad.

NPA: Industries for the Blind, Inc., West Allis, WI.

Contracting Activity: Military Resale-Defense Commissary Agency, Fort Lee, VA.

Coverage: C-List for the requirements of military commissaries and exchanges as aggregated by the Defense Commissary Agency.

Services

Service Type/Location: Grounds Maintenance, Hannah Houses & adjacent property, 157-159 Conception St., Mobile, AL.

NPA: GWI Services, Inc., Mobile, AL.

Contracting Activity: General Services Administration/Public Buildings Service, Property Management Contracts, Atlanta, GA.

Service Type/Location: Base Operations Support Service, Department of Logistics, Fort George G. Meade, MD.

NPA: Skookum Educational Programs, Bremerton, WA.

Contracting Activity: Dept. of the Army, W6QM FT Eustis CONTR CTR, Fort Eustis, VA.

Service Type/Location: Base Operations Support Service, Department of Public Works, Fort George G. Meade, MD.

NPA: Melwood Horticultural Training Center, Upper Marlboro, MD.

Contracting Activity: Dept. of the Army, W6QM FT Eustis CONTR CTR, Fort Eustis, VA.

Deletions

On 4/1/2011 (76 FR 18188-18189), the Committee for Purchase From People Who Are Blind or Severely Disabled published notice of proposed deletions from the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Paper, Toilet Tissue

NSN: 8540-01-483-8992.

NPA: Outlook-Nebraska, Inc., Omaha, NE.

Contracting Activity: General Services Administration, New York, NY.

Antifoam Compound, Silicone

NSN: 6850-01-506-6533.

NPA: East Texas Lighthouse for the Blind, Tyler, TX.

Contracting Activity: Defense Logistics Agency Troop Support, Philadelphia, PA.

Barry S. Lineback,
Director, Business Operations.

[FR Doc. 2011-13252 Filed 5-26-11; 8:45 am]

BILLING CODE 6353-01-P